ENVIRONMENTAL PROTECTION AGENCY

[EPA-HQ-OECA-2006-0418; FRL-8294-4]

Agency Information Collection Activities; Submission to OMB for Review and Approval; Comment Request; NESHAP for Coating Manufacturing Facilities (Renewal), EPA ICR Number 2115.02, OMB Control Number 2060-0535

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before May 2, 2007.

ADDRESSES: Submit your comments, referencing docket ID number EPA-HQ-OECA-2006-0418, to (1) EPA online using http://www.regulations.gov (our preferred method), or by e-mail to docket.oeca@epa.gov, or by mail to: EPA Docket Center (EPA/DC), Environmental Protection Agency, Enforcement and Compliance Docket and Information Center, mail code 2201T , 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Robert C. Marshall, Jr., Office of Compliance, 2223A, Environmental Protection Agency, 1200 Pennsylvania Avenue, NW., Washington, DC 20460; telephone number: (202) 564-7021; fax number: (202) 564-0050; e-mail address: marshall.robert@epa.gov.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments. Any additional comments on this ICR should be submitted to EPA and OMB within 30 days of this notice.

EPA has established a public docket for this ICR under docket ID number EPA-HQ-OECA-2006-0418, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for Coating Manufacturing Facilities (40 CFR part 63, subpart HHHHH)

ICR Numbers: EPA ICR Number 2115.02, OMB Control Number 2060-0535.

ICR Status: This ICR is scheduled to expire on April 30, 2007. Under OMB regulations, the Agency may continue to conduct, or sponsor the collection of information while this submission is pending at OMB. An Agency may not conduct, or sponsor, and a person is not required to respond to, a collection of information unless it displays a currently valid OMB control number. The OMB control numbers for EPA's regulations in Title 40 of the CFR, after appearing in the Federal Register when approved, are listed in 40 CFR part 9, and displayed either by publication in the Federal Register, or by other appropriate means, such as on the related collection instrument or form, if applicable. The display of OMB control numbers in certain EPA regulations is consolidated in 40 CFR part 9.

Abstract: Respondents are owners, or operators of new and existing facilities that manufacture a miscellaneous coating and are located at, or are part of, major sources of hazardous air pollutant (HAP) emissions.

Owners, or operators of miscellaneous coating manufacturing facilities subject to the standard must choose one of the compliance options described in the standard, or install and monitor control systems that reduce HAP emissions to the allowable emission rate. Specifically, owners, or operators are required to install, operate, and maintain a continuous monitoring system (CMS) to demonstrate compliance with the emission limitations, operating limits and equipment operating parameters as specified in the standard. Owners, or operators are required to conduct equipment inspections and equipment leak monitoring to demonstrate compliance.

Miscellaneous coating manufacturing facilities also are subject to the general provisions at 40 CFR part 63, subpart A which apply to all NESHAP subject facilities. These requirements include those associated with the applicability determinations; notifications that the facilities are subject to the rule; notifications of performance tests; notifications of compliance status, including the results of performance tests and design evaluations; and semiannual compliance reports. In addition to the requirements of subpart A, many respondents are required to submit a precompliance report and leak detection and repair reports, and existing facilities that wish to implement emissions averaging provisions must submit an emissions averaging plan.

All reports are to be submitted to the respondent's State, or local agency, or to the EPA regional office, whichever has been delegated enforcement authority by EPA. The information is used to determine whether or not all sources subject to the rule are achieving the emission limitations and work practice standards in the rule.

If the owner, or operator identifies any deviation resulting from a known cause for which no Federally-approved or promulgated exemption from an emission limitation, or work practice standard applies, a compliance report must be submitted that includes all records that the source is required to maintain that pertain to the periods during which such deviation occurred, as well as data regarding: the magnitude of each deviation; the reason for each deviation; a description of the corrective action taken for each deviation, including action taken to minimize each deviation and actions taken to prevent a recurrence; and a copy of all quality assurance activities performed on any monitoring protocol.

Owners, or operators of a miscellaneous coating manufacturing facility must maintain a copy of all monitored equipment operating parameter values that demonstrate compliance with the operating limits in the rule, as well as records of inspections and results of equipment leak monitoring that demonstrate compliance with the work practice standards in the rule. Owners, or operators also are required to maintain records of the occurrence and duration of any startup, shutdown, or malfunction in the operation of a source, or any period during which the monitoring system is inoperative. Those records must be maintained for a minimum of five years. At a minimum, the most recent two years of data must be retained onsite. The remaining three years of data may be retained offsite.

Burden Statement: The annual public reporting and recordkeeping burden for this collection of information is estimated to average 296 hours per response. Burden means the total time, effort, and financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit, or otherwise disclose the information.

Respondents/Affected Entities: Miscellaneous Coating Manufacturing Facilities.

Estimated Number of Respondents: 133.

Frequency of Response: Initially, on occasion, and semiannually.

Estimated Total Annual Hour Burden: 167,832.

Estimated Total Annual Cost: $17,007,914, which includes $30,000 annualized capital costs, $2,785,200 in O&M costs, and $14,192,714 in labor costs.

Changes in the Estimates: The increase in burden from the most recently approved ICR is due to adjustments. The adjustments result from the transition by the respondents from initial compliance with the standard to continuing compliance with the standard plus the addition of three new respondents to the burden total due to industry growth.

Dated: March 27, 2007.
Oscar Morales,
Director, Collection Strategies Division.

[FR Doc. E7-6043 Filed 3-30-07; 8:45 am]

BILLING CODE 6560-50-P